DEPARTMENT OF TRANSPORTATION

Federal Aviation Administration

14 CFR Part 39

[Docket No. FAA-2013-0296; Directorate Identifier 2012-NM-102-AD; Amendment 39-17861; AD 2014-11-10]

RIN 2120-AA64

Airworthiness Directives; Bombardier, Inc. Airplanes

AGENCY: Federal Aviation Administration (FAA), Department of Transportation (DOT).

ACTION: Final rule.

SUMMARY: We are superseding Airworthiness Directive (AD) 2008-08-09 for certain Bombardier, Inc. Model CL-600-2B19 (Regional Jet Series 100 & 440) airplanes. AD 2008-08-09 required revising the airworthiness limitations (AWL) section of the Instructions for Continued Airworthiness by incorporating procedures for repetitive functional tests of the pilot input lever of the pitch feel simulator (PFS) units and corrective actions if necessary. This new AD requires replacing certain PFS units with new redesigned PFS units, which would terminate the repetitive functional tests; and both adding and removing certain airplanes from the applicability. This AD was prompted by reports that the shear pin in the input lever of several PFS units failed due to fatigue; and by the development of a re-designed PFS unit, which eliminates the need for repetitive functional tests. We are issuing this AD to prevent undetected failure of the shear pins of both PFS units simultaneously, which could result in loss of pitch feel forces and consequent reduced control of the airplane.

DATES: This AD becomes effective August 19, 2014.

The Director of the Federal Register approved the incorporation by reference of certain publications listed in this AD as of August 19, 2014.

ADDRESSES: You may examine the AD docket on the Internet at http://www.regulations.gov/#!docketDetail;D=FAA-2013-0296; or in person at the Docket Management Facility, U.S. Department of Transportation, Docket Operations, M-30, West Building Ground Floor, Room W12-140, 1200 New Jersey Avenue SE., Washington, DC.

For service information identified in this AD, contact Bombardier, Inc., 400 Côte-Vertu Road West, Dorval, Québec H4S 1Y9, Canada; telephone 514-855-5000; fax 514-855-7401; email thd.crj@aero.bombardier.com; Internet http://www.bombardier.com. You may view this referenced service information at the FAA, Transport Airplane Directorate, 1601 Lind Avenue SW., Renton, WA. For information on the availability of this material at the FAA, call 425-227-1221.

FOR FURTHER INFORMATION CONTACT: Cesar Gomez, Aerospace Engineer, Airframe and Mechanical Systems Branch, ANE-171, FAA, New York Aircraft Certification Office, 1600 Stewart Avenue, Suite 410, Westbury, NY 11590; telephone 516-228-7318; fax 516-794-5531.

SUPPLEMENTARY INFORMATION:

Discussion

We issued a notice of proposed rulemaking (NPRM) to amend 14 CFR part 39 to supersede AD 2008-08-09, Amendment 39-15461 (73 FR 19979, April 14, 2008). AD 2008-08-09 applied to certain Bombardier, Inc. Model CL-600-2B19 (Regional Jet Series 100 & 440) airplanes. The NPRM published in the Federal Register on April 9, 2013 (78 FR 21074).

Transport Canada Civil Aviation (TCCA), which is the aviation authority for Canada, has issued Canadian Airworthiness Directive CF-2005-41R1, dated May 10, 2012 (referred to after this as the Mandatory Continuing Airworthiness Information, or “the MCAI”), to correct an unsafe condition for the specified products. The MCAI states:

The shear pin in the input lever of several Pitch Feel Simulators (PFS) units has failed due to fatigue. The shear pin failure is not always detectable by the flight crew in normal operation. Failure of the shear pins in both PFS units on an aeroplane could result in loss of pitch feel forces and reduced controllability of the aeroplane.

Recently, Transport Canada has certified the new design of the PFS unit—part number (P/N) 601R92300-7 as a terminating action. Revision 1 of this [Canadian] AD mandates the retrofit of all in-service CL-600-2B19 aeroplanes with the redesigned PFS unit.

Required actions include revising the AWLs section of the Instructions for Continued Airworthiness, repetitive functional testing of the pilot input lever of the PFS unit, and corrective actions if necessary, and replacing the PFS units having part number (P/N) 601R92300-3 (vendor P/N TY1910-50A) or 601R92300-5 (vendor P/N TY1910-51A) with PFS units having P/N 601R92300-7 (vendor P/N TY1910-54A), which terminates the actions required by AD 2008-08-09, Amendment 39-15461 (73 FR 19979, April 14, 2008). This AD also adds airplanes having serial numbers (S/Ns) 7991 through 7999 inclusive, and removes airplanes having S/Ns 8111 and subsequent. You may examine the MCAI in the AD docket on the Internet at http://www.regulations.gov/#!docketDetail;D=FAA-2013-0296.

Comments

We gave the public the opportunity to participate in developing this AD. The following presents the comments received on the NPRM (78 FR 21074, April 9, 2013) and the FAA's response to each comment.

Request To Revise the Applicability by Adding Part Numbers

Air Wisconsin Airlines Corporation (Air Wisconsin) requested that we revise paragraph (c) of the proposed AD (78 FR 21074, April 9, 2013) by adding the part numbers of the PFS units, in addition to the airplane serial numbers. Air Wisconsin stated that the part numbers that should be added are P/N 601R92300-3 (vendor P/N TY1910-50A) and P/N 601R92300-5 (vendor P/N TY1910-51A). Air Wisconsin provided no justification for this request.

We do not agree to add the requested part numbers to the applicability of this AD. The functional check of the input lever required by this AD must be done on all airplanes having the serial numbers identified in the applicability of this AD. We have made no changes to paragraph (c) of this AD in this regard.

Request To Clarify Instructions Regarding Airworthiness Limitations

Air Wisconsin requested that we clarify how an operator is to update the AWLs when the task for doing the functional test of the PFS unit was deleted. Air Wisconsin stated that paragraph (g) of the proposed AD (78 FR 21074, April 9, 2013) refers to Task R27-31-A024-01, which was deleted by Bombardier on February 23, 2007. Air Wisconsin pointed out that Task R27-31-A024-01 was specified in Bombardier Temporary Revision (TR) 2B-1784, dated October 24, 2003, to the Canadair CL-600-2B19 Regional Jet Maintenance Requirements Manual, Part 2, Appendix B, which is no longer available or relevant.

We agree. We removed proposed paragraph (g) (78 FR 21074, April 9, 2013) from this AD, and redesignated subsequent paragraphs accordingly. The functional test specified in paragraph (h) of the proposed AD (78 FR 21074, April 9, 2013) (redesignated as paragraph (g) of this AD) is now required in paragraph (g) of this AD.

Request To Revise Applicability To Exclude a Certain Serial Number

Air Wisconsin requested that we revise paragraph (h) of the proposed AD (78 FR 21074, April 9, 2013) (redesignated as paragraph (g) of this AD) to match the Effectivity section of Bombardier Alert Service Bulletin A601R-27-144, Revision E, dated October 2, 2012. Air Wisconsin stated that paragraph (h) of the proposed AD applies to airplanes having S/Ns 7003 through 7990 inclusive, and S/Ns 8000 through 8111 inclusive. Air Wisconsin stated that, while the Effectivity section of the service information varies between revisions, Bombardier Alert Service Bulletin A601R-27-144, Revision E, dated October 2, 2012, excludes the airplane having S/N 8111.

We agree with Air Wisconsin's request to revise the applicability of this final rule for the reason provided. We have confirmed that the airplane having S/N 8111 is not affected by the unsafe condition addressed by this AD. Therefore, we have revised paragraphs (c) and (g) of this AD (designated as paragraphs (c) and (h) of the proposed AD (78 FR 21074, April 9, 2013)) to remove the airplane having S/N 8111. We have coordinated this change with TCCA and Bombardier.

Request To Clarify Instructions Regarding Functional Test

Air Wisconsin requested that we clarify how an operator is to perform the functional test identified in paragraph (j) of the proposed AD (78 FR 21074, April 9, 2013) (redesignated as paragraph (i) of this AD) when the task for the functional test has been deleted. Air Wisconsin stated that paragraph (j) of the proposed AD refers to Task R27-31-A024-01, which was deleted by Bombardier on February 23, 2007. Air Wisconsin stated that this task was specified in Bombardier TR 2B-1784, dated October 24, 2003, to the Canadair CL-600-2B19 Regional Jet Maintenance Requirements Manual, Part 2, Appendix B, which is no longer available or relevant.

We agree for the reason stated by Air Wisconsin. We have revised paragraph (i) of this AD (designated as paragraph (j) in the proposed AD (78 FR 21074, April 9, 2013)) by removing the reference to Task R27-31-A024-01.

Request To Revise Wording in Paragraph (k) of the Proposed AD (78 FR 21074, April 9, 2013)

Air Wisconsin requested that the term “detected” in paragraph (k) of the proposed AD (78 FR 21074, April 9, 2013) (redesignated as paragraph (j) of this AD) be changed to “disconnected.” Air Wisconsin asserted that FAA's intent was probably to use the term “disconnected.”

We partially agree. We agree that paragraph (j) of this AD (78 FR 21074, April 9, 2013) (designated as paragraph (k) of the proposed AD) should read differently. Paragraph 2.B.(4)(c) of the Accomplishment Instructions of Bombardier Service Bulletin A601R-27-144, Revision E, dated October 2, 2012, states, “If the input lever moves freely, or the input lever is loose, the PFS is “defective. . . .” Therefore, we have revised paragraphs (i) and (j) of this AD (designated as paragraphs (j) and (k) of the proposed AD) by changing the word “disconnected” to “defective.”

Request To Clarify Airplanes Affected by New PFS Unit Replacement

Air Wisconsin requested that paragraph (l) of the proposed AD (78 FR 21074, April 9, 2013) (redesignated as paragraph (k) of this AD) be revised to add vendor P/Ns TY1910-50A, TY1910-51A, and TY1910-54A for clarity.

We agree with Air Wisconsin's request to add vendor part numbers in paragraph (k) of this AD (designated as paragraph (l) in the proposed AD (78 FR 21074, April 9, 2013). We have revised paragraph (k) of this AD by adding the vendor part numbers with the manufacturer part numbers.

Request To Add Compliance Time When Total Flight Hours are Unknown

Air Wisconsin requested that paragraph (l) of the proposed AD (78 FR 21074, April 9, 2013) (redesignated as paragraph (k) of this AD) be revised to add a replacement compliance time for PFS units on which the total flight hours are unknown. Air Wisconsin suggested the compliance time for PFS units with unknown total flight hours be 3,000 flight hours or 18 months after the effective date of this AD.

We agree with Air Wisconsin's request to specify a compliance time for PFS units with unknown total flight hours. We have revised paragraph (k)(4) of this AD (78 FR 21074, April 9, 2013) to add the suggested compliance time for PFS units having P/N 601R92300-3 (vendor P/N TY1910-50A) or 601R92300-5 (vendor P/N TY1910-51A) for which the total flight hours are unknown or cannot be determined.

Explanation of Changes Made to This AD

We have reformatted paragraph (l) of this AD (designated as paragraph (m) of the proposed AD (78 FR 21074, April 9, 2013).

We have added new paragraph (l)(1) to this AD. Paragraph (l)(1) of this AD gives credit for doing a functional test if done before the effective date of AD 2006-05-11 R1, Amendment 39-14528 (71 FR 15323, March 28, 2006), using Bombardier Alert Service Bulletin A601R-27-144, including Appendix A, dated September 15, 2005.

We redesignated paragraphs (m)(1), (m)(1)(i), (m)(1)(ii), and (m)(2) of the proposed AD (78 FR 21074, April 9, 2013) as paragraphs (l)(2), (l)(2)(i), (l)(2)(ii), and (l)(5) of this AD.

Conclusion

We reviewed the available data, including the comments received, and determined that air safety and the public interest require adopting this AD with the changes described previously and minor editorial changes. We have determined that these changes:

• Are consistent with the intent that was proposed in the NPRM (78 FR 21074, April 9, 2013) for correcting the unsafe condition; and

• Do not add any additional burden upon the public than was already proposed in the NPRM (78 FR 21074, April 9, 2013).

Costs of Compliance

We estimate that this AD affects 574 airplanes of U.S. registry.

The actions that are required by AD 2008-08-09, Amendment 39-15461 (73 FR 19979, April 14, 2008), and retained in this AD take about 2 work-hours per product, at an average labor rate of $85 per work-hour. Required parts cost $0 per product. Based on these figures, the estimated cost of the actions that were required by AD 2008-08-09 is $170 per product.

We also estimate that it will take about 8 work-hours per product to comply with the new basic requirements of this AD. The average labor rate is $85 per work-hour. Required parts will cost about $2,500 per product. Where the service information lists required parts costs that are covered under warranty, we have assumed that there will be no charge for these parts. As we do not control warranty coverage for affected parties, some parties may incur costs higher than estimated here. Based on these figures, we estimate the cost of this AD on U.S. operators to be $1,825,320, or $3,180 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

Examining the AD Docket

You may examine the AD docket on the Internet at http://www.regulations.gov/#!docketDetail;D=FAA-2013-0296; or in person at the Docket Management Facility between 9 a.m. and 5 p.m., Monday through Friday, except Federal holidays. The AD docket contains this AD, the regulatory evaluation, any comments received, and other information. The street address for the Docket Operations office (telephone 800-647-5527) is in the ADDRESSES section.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2008-08-09, Amendment 39-15461 (73 FR 19979, April 14, 2008), and adding the following new AD:

2014-11-10 Bombardier: Amendment 39-17861. Docket No. FAA-2013-0296; Directorate Identifier 2012-NM-102-AD.

(a) Effective Date

This AD becomes effective August 19, 2014.

(b) Affected ADs

This AD supersedes AD 2008-08-09, Amendment 39-15461 (73 FR 19979, April 14, 2008).

(c) Applicability

This AD applies to Bombardier, Inc. Model CL-600-2B19 (Regional Jet Series 100 & 440) airplanes, certificated in any category, serial numbers (S/Ns) 7003 through 8110 inclusive.

(d) Subject

Air Transport Association (ATA) of America Code 27, Flight Controls.

(e) Reason

This AD was prompted by reports that the shear pin in the input lever of several pitch feel simulator (PFS) units failed due to fatigue; and by the development of a re-designed PFS unit, which eliminates the need for repetitive functional testing. We are issuing this AD to prevent undetected failure of the shear pins of both PFS units simultaneously, which could result in loss of pitch feel forces and consequent reduced control of the airplane.

(f) Compliance

Comply with this AD within the compliance times specified, unless already done.

(g) Retained Functional Test of Input Lever With Revised Service Information

This paragraph restates the requirements of paragraph (g) of AD 2008-08-09, Amendment 39-15461 (73 FR 19979, April 14, 2008), with revised service information. For airplanes having S/Ns 7003 through 7990 inclusive, and S/Ns 8000 through 8110 inclusive: Before the accumulation of 4,000 total flight hours, or within 100 flight hours after March 27, 2006 (the effective date of AD 2006-05-11 R1, Amendment 39-14528 (71 FR 15323, March 28, 2006), whichever occurs later, do a functional test of the pilot input lever of the PFS units to determine if the lever is disconnected, in accordance with the Accomplishment Instructions of a service bulletin specified in paragraph (g)(1), (g)(2), or (g)(3) of this AD. Repeat the test at intervals not to exceed 100 flight hours. As of the effective date of this AD, only Bombardier Alert Service Bulletin A601R-27-144, Revision E, dated October 2, 2012, including Appendix A, Revision A, dated December 20, 2006, may be used to accomplish the actions required by this paragraph.

(1) Bombardier Alert Service Bulletin A601R-27-144, Revision A, dated February 14, 2006, including Appendix A, dated September 15, 2005.

(2) Bombardier Alert Service Bulletin A601R-27-144, Revision B, dated December 20, 2006, including Appendix A, Revision A, dated December 20, 2006.

(3) Bombardier Alert Service Bulletin A601R-27-144, Revision E, dated October 2, 2012, including Appendix A, Revision A, dated December 20, 2006.

(h) Retained Replacement With Revised Service Information

This paragraph restates the requirements of paragraph (h) of AD 2008-08-09, Amendment 39-15461 (73 FR 19979, April 14, 2008), with revised service information. If any lever is found to be disconnected during any functional test required by paragraph (g) of this AD: Before further flight, replace the defective PFS unit with a serviceable PFS unit, in accordance with the Accomplishment Instructions of a service bulletin specified in paragraph (h)(1), (h)(2), or (h)(3) of this AD. As of the effective date of this AD, only Bombardier Alert Service Bulletin A601R-27-144, Revision E, dated October 2, 2012, including Appendix A, Revision A, dated December 20, 2006, may be used to accomplish the actions required by this paragraph.

(1) Bombardier Alert Service Bulletin A601R-27-144, Revision A, dated February 14, 2006, including Appendix A, dated September 15, 2005.

(2) Bombardier Alert Service Bulletin A601R-27-144, Revision B, dated December 20, 2006, including Appendix A, Revision A, dated December 20, 2006.

(3) Bombardier Alert Service Bulletin A601R-27-144, Revision E, dated October 2, 2012, including Appendix A, Revision A, dated December 20, 2006.

(i) New Functional Test of Input Lever

For airplanes having S/Ns 7991 through 7999 inclusive: At the later of the times specified in paragraphs (i)(1) and (i)(2) of this AD, do a functional test of the pilot input lever of the PFS units to determine if the lever is defective, in accordance with the Accomplishment Instructions of Bombardier Alert Service Bulletin A601R-27-144, Revision E, dated October 2, 2012, including Appendix A, Revision A, dated December 20, 2006. Repeat the test thereafter at intervals not to exceed 100 flight hours.

(1) Before the accumulation of 4,000 total flight hours.

(2) Within 100 flight hours from the effective date of this AD.

(j) New Replacement of Defective Pitch Feel Simulator Unit

For airplanes having S/Ns 7991 through 7999 inclusive: If any defective lever is found during any functional test required by paragraph (i) of this AD, before further flight, replace the defective PFS unit with a serviceable PFS unit, in accordance with the Accomplishment Instructions of Bombardier Alert Service Bulletin A601R-27-144, Revision E, dated October 2, 2012, including Appendix A, Revision A, dated December 20, 2006.

(k) New Replacement of Pitch Feel Simulator Units

At the applicable time specified in paragraph (k)(1), (k)(2), (k)(3), or (k)(4) of this AD: Replace PFS units having part number (P/N) 601R92300-3 (vendor P/N TY1910-50A) or 601R92300-5 (vendor P/N TY1910-51A), with PFS units having P/N 601R92300-7 (vendor P/N TY1910-54A), in accordance with the Accomplishment Instructions of Bombardier Service Bulletin 601R-27-139, Revision A, dated May 28, 2012. Accomplishment of the replacement required by this paragraph terminates the requirements of paragraphs (g), (h), (i), and (j) of this AD, and does not alter the approved maintenance program for the new redesigned PFS unit P/N 601R92300-7 (vendor P/N TY1910-54A).

(1) For PFS units having P/N 601R92300-3 (vendor P/N TY1910-50A) or 601R92300-5 (vendor P/N TY1910-51A), that have accumulated less than 18,000 total flight hours as of the effective date of this AD: Within 6,000 flight hours after the effective date of this AD, but not to exceed 23,000 total flight hours on the PFS unit, or within 36 months after the effective date of this AD, whichever occurs first.

(2) For PFS units having P/N 601R92300-3 (vendor P/N TY1910-50A) or 601R92300-5 (vendor P/N TY1910-51A), that have accumulated more than or equal to 18,000 total flight hours, but less than 19,000 total flight hours as of the effective date of this AD: Within 5,000 flight hours after the effective date of this AD, but not to exceed 23,000 total flight hours on the PFS unit, or within 30 months after the effective date of this AD, whichever occurs first.

(3) For PFS units having P/N 601R92300-3 (vendor P/N TY1910-50A) or 601R92300-5 (vendor P/N TY1910-51A), that have accumulated more than or equal to 19,000 total flight hours, but less than 20,000 total flight hours as of the effective date of this AD: Within 4,000 flight hours after the effective date of this AD, but not to exceed 23,000 total flight hours on the PFS unit, or within 24 months after the effective date of this AD, whichever occurs first.

(4) For PFS units having P/N 601R92300-3 (vendor P/N TY1910-50A) or 601R92300-5 (vendor P/N TY1910-51A) that have accumulated more than or equal to 20,000 total flight hours as of the effective date of this AD, or for which the total flight hours are unknown or cannot be determined: Within 3,000 flight hours or 18 months after the effective date of this AD, whichever occurs first.

(l) Credit for Previous Actions

(1) This paragraph provides credit for the actions required by paragraphs (g) and (h) of this AD, if those actions were performed before March 27, 2006 (the effective date of AD 2006-05-11 R1, Amendment 39-14528 (71 FR 15323, March 28, 2006)), using Bombardier Alert Service Bulletin A601R-27-144, including Appendix A, dated September 15, 2005, which is not incorporated by reference in this AD.

(2) This paragraph provides credit for the actions required by paragraphs (g) and (h) of this AD, if those actions were performed before the effective date of this AD using a service bulletin identified in paragraph (l)(2)(i) or (l)(2)(ii) of this AD.

(i) Bombardier Alert Service Bulletin A601R-27-144, Revision C, dated July 21, 2008, including Appendix A, dated December 20, 2006, which is not incorporated by reference in this AD.

(ii) Bombardier Alert Service Bulletin A601R-27-144, Revision D, dated December 22, 2011, including Appendix A, dated December 20, 2006, which is not incorporated by reference in this AD.

(3) This paragraph provides credit for the actions required by paragraph (h) of this AD, if those actions were performed before March 27, 2006 (the effective date of AD 2006-05-11 R1, Amendment 39-14528 (71 FR 15323, March 28, 2006)), using Bombardier Alert Service Bulletin A601R-27-144, Revision B, dated December 20, 2006, including Appendix A, Revision A, dated December 20, 2006.

(4) This paragraph provides credit for actions required by paragraph (i) of this AD, if those actions were performed before May 19, 2008 (the effective date of AD 2008-08-09, Amendment 39-15461 (73 FR 19979, April 14, 2008)), using Bombardier Alert Service Bulletin A601R-27-144, Revision B, dated December 20, 2006, including Appendix A, Revision A, dated December 20, 2006.

(5) This paragraph provides credit for replacement of the PFS units required by paragraph (k) of this AD, if those actions were performed before the effective date of this AD using Bombardier Service Bulletin 601R-27-139, dated December 22, 2011, which is not incorporated by reference in this AD.

(m) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. Send information to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD. AMOCs approved previously in accordance with AD 2008-08-09, Amendment 39-15461 (73 FR 19979, April 14, 2008), are approved as AMOCs for the corresponding actions specified in paragraphs (g) and (h) of this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(n) Related Information

(1) Refer to Mandatory Continuing Airworthiness Information (MCAI) Canadian Airworthiness Directive CF-2005-41R1, dated May 10, 2012, for related information. You may examine the MCAI in the AD docket on the Internet at http://www.regulations.gov/#!docketDetail;D=FAA-2013-0296.

(2) Service information identified in this AD that is not incorporated by reference may be obtained at the addresses specified in paragraphs (o)(3) and (o)(4) of this AD.

(o) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Bombardier Alert Service Bulletin A601R-27-144, Revision E, dated October 2, 2012, including Appendix A, Revision A, dated December 20, 2006.

(ii) Bombardier Service Bulletin 601R-27-139, Revision A, dated May 28, 2012.

(3) For service information identified in this AD, contact Bombardier, Inc., 400 Côte-Vertu Road West, Dorval, Québec H4S 1Y9, Canada; telephone 514-855-5000; fax 514-855-7401; email thd.crj@aero.bombardier.com; Internet http://www.bombardier.com.

(4) You may view this referenced service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on May 27, 2014.
Michael Kaszycki,
Acting Manager, Transport Airplane Directorate, Aircraft Certification Service.

[FR Doc. 2014-15655 Filed 7-14-14; 8:45 am]

BILLING CODE 4910-13-P